DEPARTMENT OF HEALTH AND HUMAN SERVICES

Centers for Disease Control and Prevention

[60Day-15-0214; Docket No. CDC-2015-0076]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the proposed revision of the National Health Interview Survey (NHIS). The annual National Health Interview Survey is a major source of general statistics on the health of the U.S. population.

DATES: Written comments must be received on or before November 2, 2015.

ADDRESSES: You may submit comments, identified by Docket No. CDC-2015-0076 by any of the following methods:

• Federal eRulemaking Portal: Regulation.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

National Health Interview Survey (NHIS), (OMB No. 0920-0214, expires 12/31/2017)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect data on the extent and nature of illness and disability of the population of the United States. The annual National Health Interview Survey is a major source of general statistics on the health of the U.S. population and has been in the field continuously since 1957. Clearance is sought for three years, to collect data from 2016 to 2018. This voluntary and confidential household-based survey collects demographic and health-related information from a nationally representative sample of noninstitutionalized, civilian persons and households throughout the country. Personal identification information is requested from survey respondents to facilitate linkage of survey data with health-related administrative and other records. In 2016 the NHIS will collect information from approximately 45,000 households, which contain about 112,000 individuals.

Information is collected using computer assisted personal interviews (CAPI). A core set of data is collected each year that remains largely unchanged, whereas sponsored supplements vary from year to year. The core set includes socio-demographic characteristics, health status, health care services, and health behaviors. For 2016, supplemental questions will be cycled in pertaining to balance, blood donation, chronic pain, diabetes, and vision. Supplemental topics that continue or are enhanced from 2015 pertain to family food security, heart disease and stroke, inflammatory bowel disease, hepatitis B and C screening, children's mental health, disability and functioning, smokeless tobacco and e-cigarettes, and immunizations. Questions from 2015 on cancer control, epilepsy, and occupational health have been removed. In addition to these core and supplemental modules, a follow-back survey will be conducted on previous NHIS respondents to collect additional health related information using alternative question wording and data collection modes as a testbed for the intended 2018 redesign of the NHIS questionnaire. In addition, a subsample of NHIS respondents may be identified to participate in a pilot test to assess the feasibility of integrating wearable devices into the NHIS data collection process. The aim is to directly track health measurements, to compare those measurements to the self-reported health information provided by respondents, and to assess the role of devices in reducing respondent burden.

A new sampling strategy is being implemented in 2016 and for the foreseeable future. This new sampling design is necessitated by the prior 2006-2015 sample being exhausted, and will take into account demographic shifts in the U.S. civilian noninstitutionalized population. It will also be more flexible allowing for additions and contractions to reflect funding availability and to meet estimation goals. As in previous years, the base sample will remain at approximately 35,000 completed household interviews annually. To balance the precision of national and state-based estimates, most of the sample (approximately 25,000 completed interviews) will be allocated proportionally to the state population to maximize the precision of national-level estimates. A smaller portion of the sample (approximately 10,000 completed interviews) will be shifted to increase sample in the 10 least populous states, enabling state-level estimates of key variables to be produced for all 50 states and DC by pooling 3 years of data. This flexibility embedded in the new sampling plan reflects. Additional funding to improve state-level estimates will increase the sample by almost 10,000 completed interviews in midsize states bringing the total expected sample size in 2016 to 45,000 households.

Whereas the sampling frame for the NHIS has traditionally used field listing by the Census Bureau, in order to contain costs, the new frame will use a commercially available address list that covers residential addresses within all 50 states and the District of Columbia. Some field listing will be undertaken to improve coverage in rural areas, in high density areas, and of university housing units. This represents a substantial reduction in the number of listings performed annually.

It is anticipated that this new sampling plan will not affect estimates generated using NHIS data. To monitor the new design's performance, NHIS analysts will perform monthly checks in line with the ones currently performed as part of routine data review. NCHS receives raw data files monthly from the Census Bureau for processing and quality review. Each year, results from the January sample are compared to the previous year to determine whether the results consistent. In addition to comparing the unweighted and weighted frequencies, the input and output specifications are reviewed, and the flowcharts are compared to the skip instructions and universes for each question. If a difference is found, steps are taken to determine whether the change is legitimate or whether there is a factor other than the programming of the questionnaire such as the location or context of the question in the questionnaire. If a difference persists, the paradata are reviewed to determine whether there are changes in the mean or median time spent on that question, whether interviewers had a high rate of backing up to return to that question, and whether other questions in that battery were similarly affected. Persistent differences will be examined to determine whether there is any other interviewer effect such as results comparing newly hired and experienced interviewers and newly added primary sampling units compared to continuing primary sampling units. In addition, national estimates on the key set of indicators that are released in a quarterly report as part of the Early Release program will be monitored by NHIS analysts.

In accordance with the 1995 initiative to increase the integration of surveys within the DHHS, respondents to the NHIS serve as the sampling frame for the Medical Expenditure Panel Survey conducted by the Agency for Healthcare Research and Quality. The NHIS has long been used by government, academic, and private researchers to evaluate both general health and specific issues, such as smoking, diabetes, health care coverage, and access to health care. It is a leading source of data for the Congressionally-mandated “Health US” and related publications, as well as the single most important source of statistics to track progress toward the National Health Promotion and Disease Prevention Objectives, “Healthy People 2020.”

There is no cost to the respondents other than their time.

Estimated Annualized Burden Hours
Type of respondent | Form name | Number of respondents | Number of responses per respondent | Average burden per response (in hours) | Total burden (in hours)
Adult Family Member | Screener Questionnaire | 10,000 | 1 | 5/60 | 833
Adult Family Member | Family Core | 45,000 | 1 | 23/60 | 17,250
Sample Adult | Adult Core | 36,000 | 1 | 15/60 | 9,000
Adult Family Member | Child Core | 14,000 | 1 | 10/60 | 2,333
Adult Family Member | Supplements | 45,000 | 1 | 20/60 | 15,000
Adult Family Member | Followback and other Special Projects | 15,000 | 1 | 20/60 | 5,000
Adult Family Member | Reinterview Survey | 5,000 | 1 | 5/60 | 417
Total |  |  |  |  | 49,833

Leroy A. Richardson,
Chief, Information Collection Review Office, Office of Scientific Integrity, Office of the Associate Director for Science, Office of the Director, Centers for Disease Control and Prevention.

[FR Doc. 2015-21708 Filed 9-1-15; 8:45 am]

BILLING CODE 4163-18-P